SECURITIES AND EXCHANGE COMMISSION

[Release No. 34-42473; File No. SR-ISE-00-02]

Self-Regulatory Organizations; Notice of Filing of Proposed Rule Change by the International Securities Exchange LLC Relating to its Fee Schedule

February 29, 2000.

Pursuant to Section 19(b)(1) of the Securities Exchange Act of 1934 (“Act”),¹ and Rule 19b-4 thereunder,² notice is hereby given that on February 25, 2000, the International Securities Exchange LLC (the “Exchange” or the “ISE”) filed with the Securities and Exchange Commission (“SEC” or “Commission”) the proposed rule change as described in Items I, II, and III below, which Items have been prepared by the ISE. The Commission is publishing this notice to solicit comments on the proposed rule change from interested persons.³

¹ 15 U.S.C. 78s(b)(1).

² 17 CFR 240.19b-4.

³ The Commission notes that proposed rule changes relating to fees usually are filed pursuant to Section 19(b)(3)(A) and subparagraph (f) of Rule 19b-4 thereunder. Because the ISE is a new exchange, however, the Commission has determined that publishing the proposed rule change for notice and comment is appropriate.

I. Self-Regulatory Organization's Statement of the Terms of Substance of the Proposed Rule Change

The ISE proposes to adopt fees to be imposed on members of the Exchange. The text of the proposal is attached as Exhibit A.

II. Self-Regulatory Organization's Statement of the Purpose of, and Statutory Basis for, the Proposed Rule Change

In its filing with the Commission, the ISE included statements concerning the purpose of and basis for the proposed rule change and discussed any comments it received on the proposed rule change. The text of these statements may be examined at the places specified in Item IV below. The ISE has prepared summaries, set forth in Sections A, B, and C below, of the most significant aspects of such statements.

A. Self-Regulatory Organization's Statement of the Purpose of, and Statutory Basis for, the Proposed Rule Change

1. Purpose

ISE proposes to establish its fee schedule for the services it will offer to its members and others. This schedule includes membership fees, trading fees, and fees for a variety of other services, including the installation and maintenance of certain equipment. With these fees, ISE intends to recover its costs of operating a trading market and building a reserve for future needs. ISE does not intend to use these fees to generate an operating profit to distribute to its members. As the ISE gains experience in the operation of its market, it will adjust its fees to maintain the appropriate balance between costs and expenses.

2. Statutory Basis

The ISE believes that the proposed rule change is consistent with the provisions of Section 6(b)(4) of the Act,⁴ which requires that an exchange have rules that provide for the equitable allocation of reasonable dues, fees and other charges among its members and other persons using its facilities.

⁴ 15 U.S.C. 78f(b)(4).

B. Self-Regulatory Organization's Statement on Burden on Competition

The ISE does not believe that the proposed rule change will result in any burden on competition that is not necessary or appropriate in furtherance of the purposes of the Act.

C. Self-Regulatory Organization's Statement on Comments on the Proposed Rule Change Received From Members, Participants or Others

Written comments on the proposed rule change were neither solicited nor received.

III. Date of Effectiveness of the Proposed Rule Change and Timing for Commission Action

Within 35 days of the date of publication of this notice in the Federal Register or within such longer period (i) as the Commission may designate up to 90 days of such date if it finds such longer period to be appropriate and publishes its reasons for so finding or (ii) as to which the ISE consents, the Commission will:

(A) By order approve the proposed rule change, or

(B) Institute proceedings to determine whether the proposed rule change should be disapproved.

IV. Solicitation of Comments

Interested persons are invited to submit written data, views, and arguments concerning the foregoing, including whether the proposed rule change is consistent with the Act. Persons making written submissions should file six copies thereof with the Secretary, Securities and Exchange Commission, 450 Fifth Street, N.W., Washington, D.C. 20549-0609. Copies of the submission, all subsequent amendments, all written statements with respect to the proposed rule change that are filed with the Commission, and all written communications relating to the proposed rule change between the Commission and any person, other than those that may be withheld from the public in accordance with the provisions of 5 U.S.C. 552, will be available for inspection and copying at the Commission's Public Reference Room. Copies of such filing will also be available for inspection and copying at the principal office of the ISE. All submissions should refer to File No. SR-ISE-00-02 and should be submitted by March 27, 2000.

For the Commission, by the Division of Market Regulation, pursuant to delegated authority. ⁵

⁵ 17 CFR 200.30-3(a)(12).

Jonathan G. Katz,
Secretary.

Exhibit A.—Text of the Proposed Rule Change
ISE Schedule of fees | Amount | Billable unit | Frequency | Notes
Electronic Market Place:
Execution Fees:
• Customer | $0.05 | contract/side | Transaction | Fee waived for 6 months.
• Facilitation | 0.15 | contract/side | Transaction
• Market Maker & Firm Proprietary:
A.D.V. Less than 300,000 | 0.21 | contract/side | Transaction | Based on Exchange A.D.V.
A.D.V. Less than 300,001 to 500,000 | 0.17 | contract/side | Transaction | Based on Exchange A.D.V.
A.D.V. Less than 500,001 to 700,000 | $0.14 | contract/side | Transaction | Based on Exchange A.D.V.
A.D.V. Over 700,000 | $0.12 | contract/side | Transaction | Based on Exchange A.D.V.
Comparison Fee | 0.03 | contract/side | Transaction | Fee waived for Customer Trades for 6 months.
Trading Application Software:
Installation:
• Non-standard Services | 350.00 | Hourly | One Time | Time & Material.
Software License & Maintenance:
• Torque:
First | 1250.00 | Terminal | Monthly
Second through Fourth | $750.00 | Terminal | Monthly
Fifth and Over | 250.00 | Terminal | Monthly
• Click | 500.00 | Terminal | Monthly
Session/API Fee:
• Market Makers | 1,000.00 | API | Monthly | Minimum of Two.
• EAM | 250.00 | API | Monthly
• Ordering Routing Service Connection Fee | 250.00 | API | Monthly
Access Services
Access Fees:
• EAM | 500.00 | Member Firm | Monthly.
• Market Maker
• Primary | 4,000.00 | Member Firm | Monthly
• Competitive | 2,000.00 | Member Firm | Monthly
Network Fees:
• Dedicated Line connection | 250.00 | Line | Monthly
• Order Routing Service | 100.00 | Line | Monthly
Gateway:
• Installation | 5,000.00 | Gateway | One Time
Legal & Regulatory:
Application:
• Primary Market Maker | 7,500.00 | Member Firm | One Time
• Competitive Market Maker | 5,500.00 | Member Firm | One Time
• Electronic Access Member | 3,500.00 | Member Firm | One Time
• Lessor | 1,000.00 | Applicant | One Time
Administrative:
• DTR Approval | 500.00 | Trader | One Time
• U4 Initial Registration | 25.00 | Registered Person | One Time
• Pg 2—U4 for Non-Registered Persons | 100.00 | Individual | One Time
Regulatory Fee: | 3,500.00 | Member Firm | Annual
Other Services:
Training | 500.00 | Daily per Trainee | As Incurred
Testing | 100.00 | Per candidate | Per Exam
Third Party Developers:
• Set-Up | 1,000.00 | Developer | One Time
• Usage | 1,000.00 | Monthly | Monthly
Disaster Recovery Testing & Relocation Services | 3,000.00 | ½ Day | As Incurred

[FR Doc. 00-5378 Filed 3-3-00; 8:45 am]

BILLING CODE 8010-01-P